DEPARTMENT OF LABOR

Office of Workers' Compensation Programs

20 CFR Part 30

Claims for Compensation Under the Energy Employees Occupational Illness Compensation Program Act of 2000

CFR Correction

This rule is being published by the Office of the Federal Register to correct an editorial or technical error that appeared in the most recent annual revision of the Code of Federal Regulations.

In Title 20 of the Code of Federal Regulations, Parts 1 to 399, revised as of April 1, 2021, in § 30.403, remove the second paragraph (c) and paragraph (d).

[FR Doc. 2022-06497 Filed 3-24-22; 8:45 am]

BILLING CODE 0099-10-P